CORPORATION FOR NATIONAL AND COMMUNITY SERVICE

Sunshine Act Meeting

The White House Council for Community Solutions gives notice of the following meeting:

DATE AND TIME: Wednesday, May 9, 2012, 1:15-2 p.m. Eastern Standard Time.

PLACE: The Council will meet via phone conference call. The meeting will be open to the public in Listen-Only mode and it will be recorded. To dial in, please call 866-525-0652. More details and materials will be available on the Council's Web site (http://www.serve.gov/communitysolutions) by Tuesday, May 8.

PUBLIC COMMENT: The public is invited to submit publicly available comments through the Council's Web site. To send statements to the Council, please send written statements to the Council's electronic mailbox at WhiteHouseCouncil@cns.gov. The public can also follow the Council's work by visiting its Web site: http://www.serve.gov/communitysolutions.

STATUS: Open.

MATTERS TO BE CONSIDERED: The purpose of this meeting is to review and make decisions on the Council's recommendations that will be included in its final report to the President. The Report will be available to the public on the Council's Web site referenced above when sent to the President. The report will provide a record of the work of the Council from its establishment in December 2010.

CONTACT PERSON FOR MORE INFORMATION: Kathy Bendheim, Executive Director, White House Council for Community Solutions, Corporation for National and Community Service, 10th Floor, Room 10911, 1201 New York Avenue NW., Washington, DC 20525. Phone: (202) 491-3809. Fax: (202) 606-3464. Email: WhiteHouseCouncil@cns.gov.

Dated: April 17, 2012.
Kathryn Bendheim,
Executive Director, White House Council for Community Solutions.

[FR Doc. 2012-9619 Filed 4-17-12; 4:15 pm]

BILLING CODE 6050-$$-P